DEPARTMENT OF COMMERCE

National Oceanic and Atmospheric Administration

RIN 0648-XB161

Marine Mammals; File No. 14535

AGENCY: National Marine Fisheries Service (NMFS), National Oceanic and Atmospheric Administration (NOAA), Commerce.

ACTION: Notice; issuance of permit amendment.

SUMMARY: Notice is hereby given that a permit amendment has been issued to Colleen Reichmuth, Ph.D., Long Marine Laboratory, University of California at Santa Cruz, 100 Shaffer Road, Santa Cruz, CA 95060, for research on captive pinnipeds.

DATES: Written, telefaxed, or email comments must be received on or before September 19, 2013.

ADDRESSES: The permit amendment and related documents are available for review upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Amy Sloan or Jennifer Skidmore, 301-427-8401.

SUPPLEMENTARY INFORMATION: On April 9, 2013, notice was published in the Federal Register (78 FR 21112) that a request for an amendment to Permit No. 14535-01 to conduct research on captive pinnipeds had been submitted by the above-named applicant. The requested permit amendment has been issued under the authority of the Marine Mammal Protection Act of 1972, as amended (16 U.S.C. 1361 et seq.); and the regulations governing the taking and importing of marine mammals (50 CFR part 216).

Permit No. 14535-02 authorizes the addition of temporary threshold shift (TTS) studies to the currently approved research activities for captive pinnipeds held at Long Marine Laboratory in Santa Cruz, CA. This research may be conducted with up to two individuals from each of three species of ice seal: Spotted (Phoca largha), ringed (Phoca hispida), and bearded (Erignathus barbatus) seals trained for participation in ongoing behavioral hearing studies. This research will provide the first-ever direct information about the noise levels that cause a temporary, recoverable reduction in hearing sensitivity following exposure events in ice seals. The research is accomplished using trained behaviors in which the animals voluntarily participate and can leave the testing area at any time.

In compliance with the National Environmental Policy Act of 1969 (42 U.S.C. 4321 et seq.), a final determination has been made that the activities proposed are categorically excluded from the requirement to prepare an environmental assessment or environmental impact statement.

Dated: August 15, 2013.
P. Michael Payne,
Chief, Permits and Conservation Division, Office of Protected Resources, National Marine Fisheries Service.

[FR Doc. 2013-20225 Filed 8-19-13; 8:45 am]

BILLING CODE 3510-22-P